INTERNATIONAL TRADE COMMISSION

[Investigation No. 731-TA-410 (Fifth Review)]

Light-Walled Rectangular Pipe and Tube From Taiwan

Determination

On the basis of the record ¹ developed in the subject five-year review, the United States International Trade Commission (“Commission”) determines, pursuant to the Tariff Act of 1930 (“the Act”), that revocation of the antidumping duty order on light-walled rectangular pipe and tube from Taiwan would be likely to lead to continuation or recurrence of material injury to an industry in the United States within a reasonably foreseeable time.

¹ The record is defined in § 207.2(f) of the Commission's Rules of Practice and Procedure (19 CFR 207.2(f)).

Background

The Commission instituted this review on July 1, 2022 (87 FR 39562) and determined on October 4, 2022, that it would conduct an expedited review (88 FR 2374, January 13, 2023).

The Commission made this determination pursuant to section 751(c) of the Act (19 U.S.C. 1675(c)). It completed and filed its determination in this review on February 22, 2023. The views of the Commission are contained in USITC Publication 5410 (February 2023), entitled Light-Walled Rectangular Pipe and Tube from Taiwan: Investigation No. 731-TA-410 (Fifth Review).

By order of the Commission.
Issued: February 22, 2023.
Lisa Barton,
Secretary to the Commission.

[FR Doc. 2023-04002 Filed 2-27-23; 8:45 am]

BILLING CODE 7020-02-P